FEDERAL DEPOSIT INSURANCE CORPORATION

Notice of Agency Meeting

Pursuant to the provisions of the “Government in the Sunshine Act” (5 U.S.C. 552b), notice is hereby given that at 2:35 p.m. on Friday, October 10, 2008, the Board of Directors of the Federal Deposit Insurance Corporation met in open session to consider the following matter:

Memorandum and resolution re: Interim Rule on Temporary Increase in Standard Coverage Amount and on Mortgage Servicing Accounts.

In calling the meeting, the Board determined, on motion of Vice Chairman Martin J. Gruenberg, seconded by Director John C. Dugan (Comptroller of the Currency), concurred in by Director John M. Reich (Director, Office of Thrift Supervision), Director Thomas J. Curry (Appointive), and Chairman Sheila C. Bair, that Corporation business required its consideration of the matters on less than seven days' notice to the public; and that no notice of the meeting earlier than October 8, 2008, was practicable.

The meeting was held in the Board Room of the FDIC Building located at 550—17th Street, NW., Washington, DC.

Dated: October 14, 2008.
Federal Deposit Insurance Corporation.
Robert E. Feldman,
Executive Secretary.

[FR Doc. E8-24879 Filed 10-17-08; 8:45 am]

BILLING CODE 6714-01-P